FEDERAL COMMUNICATIONS COMMISSION

47 CFR Part 1

[DA 20-562; FRS 16806]

New Location and Hours for Filing Hand-Carried Documents at Commission Headquarters

AGENCY: Federal Communications Commission.

ACTION: Final rule.

SUMMARY: In this document, the Office of Managing Director of the Federal Communications Commission (Commission) adopts an Order that establishes the new location and hours for filing hand-carried documents at Commission headquarters and modifies the relevant rule provisions to reflect such changes.

DATES: Effective June 30, 2020.

FOR FURTHER INFORMATION CONTACT: Warren Firschein, Office of Managing Director at (202) 418-2653 or Mindy Ginsburg, Office of Managing Director at (202) 418-0983.

SUPPLEMENTARY INFORMATION: This is a summary of the Commission's Order, DA 20-562, adopted on May 27, 2020 and released on May 28, 2020. The full text of this document is available for public inspection and copying during normal business hours in the FCC Reference Center (Room CY-A257), 445 12th Street SW, Washington, DC 20554, or by downloading the text from the Commission's website at https://www.fcc.gov/document/new-location-filing-hand-carried-documents-fcc-headquarters.

I. Administrative Matters

A. Final Regulatory Flexibility Analysis

1. Section 603 of the Regulatory Flexibility Act, as amended, requires a regulatory flexibility analysis in notice and comment rulemaking proceedings. See 5 U.S.C. 603(a). As we are adopting these rules without notice and comment, no regulatory flexibility analysis is required.

B. Final Paperwork Reduction Act of 1995 Analysis

2. This document does not contain new or modified information collection requirements subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

C. Congressional Review Act

3. The Commission will not send a copy of the Order pursuant to the Congressional Review Act, see 5 U.S.C. 801(a)(1)(A), because the adopted rules are rules of agency organization, procedure, or practice that do not “substantially affect the rights or obligations of non-agency parties.” See 5 U.S.C. 804(3)(C).

II. Introduction

4. In the Order, the Office of Managing Director of the Federal Communications Commission amends its rules to reflect the new address for filing hand-carried documents at the Commission's headquarters and establish a new closing time for accepting such filings. Effective upon publication in the Federal Register, hand-carried documents are to be filed at 9050 Junction Drive, Annapolis Junction, MD 20701. After COVID-19 restrictions are lifted, this will be the only location where hand-carried paper filings for the Commission will be accepted. At that time, the filing window for hand-carried documents will be open from 8:00 a.m. to 4:00 p.m., Monday through Friday. The Commission will not accept hand-carried filings outside of those hours. These changes are being made to enhance security measures and in conjunction with the Commission's upcoming relocation to a new headquarters building located at 45 L Street NE, Washington, DC 20554, which is scheduled to occur later this year.

5. This action is taken pursuant to the authority delegated by §§ 0.11 and 0.231 of the Commission's rules, 47 CFR 0.11 and 0.231.

III. Ordering Clauses

6. Accordingly, pursuant to sections 4(e) and 5(e) of the Communications Act of 1934, as amended, 47 U.S.C. 154(e) and 155(d), it is ordered that part 0 of the Commission's rules are amended in the manner indicated in the Appendix of the Order, to be effective upon publication in the Federal Register.

List of Subjects in 47 CFR Part 1

Administrative practice and procedure.

Federal Communications Commission.
Marlene Dortch,
Secretary, Office of the Secretary.

For the reasons discussed in the preamble, the Federal Communications Commission amends 47 CFR parts 0 and 1 as follows:

PART 0—COMMISSION ORGANIZATION

1. The authority citation for part 0 continues to read as follows:

Authority: 47 U.S.C. 155, 225, unless otherwise noted.

2. Amend § 0.401 by revising paragraph (a)(1)(ii) to read as follows:

§ 0.401 Location of Commission offices.

* * * * *

(a) * * *

(1) * * *

(ii) All hand-carried documents should be addressed to the Commission's Secretary, Office of the Secretary, Federal Communications Commission and delivered to 9050 Junction Drive, Annapolis Junction, MD 20701.

* * * * *

PART 1—PRACTICE AND PROCEDURE

3. The authority citation for part 1 continues to read as follows:

Authority: 47 U.S.C. chs. 2, 5, 9, 13; 28 U.S.C. 2461 note, unless otherwise noted.

4. Amend § 1.4 by revising the first sentence of paragraph (f) to read as follows:

§ 1.4 Computation of time.

* * * * *

(f) Except as provided in § 0.401(b) of this chapter, all petitions, pleadings, tariffs or other documents not required to be accompanied by a fee and which are hand-carried must be tendered for filing in complete form, as directed by the Commission's rules, with the Office of the Secretary before 4 p.m., at the address indicated in 47 CFR 0.401(a). * * *

* * * * *

[FR Doc. 2020-12255 Filed 6-29-20; 8:45 am]

BILLING CODE 6712-01-P